FEDERAL COMMUNICATIONS COMMISSION

47 CFR Part 25

[IB Docket No. 07-253; FCC 08-98]

Ancillary Terrestrial Components in the 1.6/2.4 GHz Big LEO Bands

AGENCY: Federal Communications Commission.

ACTION: Final rule.

SUMMARY: Currently, Globalstar, Inc. (Globalstar) operates a Mobile-Satellite Service (MSS) system in the 1610-1626.5 MHz band (Big LEO L-band) and the 2483.5-2500 MHz band (Big LEO S-band). Globalstar, a code division multiple access (CDMA) system, is authorized to operate an ancillary terrestrial component (ATC) in the 1610-1615.5 MHz and 2487.5-2493 MHz segments of the Big LEO bands. By this decision, the Federal Communications Commission (Commission) increases the spectrum in which Big LEO MSS systems using CDMA technology operate ATC. As a result, the Commission increases the spectrum in which Globalstar may operate ATC in the Big LEO L-band to include the 1610-1617.775 MHz band, an increase of 2.275 megahertz, and in the Big LEO S-band to include the 2483.5-2495 MHz band, an increase of six megahertz.

DATES: Effective June 6, 2008.

ADDRESSES: Federal Communications Commission, 445 12th Street, SW., Washington, DC 20554.

FOR FURTHER INFORMATION CONTACT: Howard Griboff, 202/418-0657.

SUPPLEMENTARY INFORMATION: The 1610-1626.5 MHz band and 2483.5-2500 MHz band were allocated to the MSS for low-earth orbiting satellites in 1994. Currently, CDMA MSS systems, of which Globalstar is the only operational system, have exclusive MSS use of the 1610-1617.775 MHz segment of the L-band and the 2483.5-2500 MHz segment of the L-band.

ATC allows MSS systems to provide coverage in areas where the satellite signal is blocked, particularly in side buildings, by using terrestrial base stations that operate in the same frequency bands as the satellite systems. In order for an MSS system to operate ATC, it must meet several criteria to ensure that the ATC is part of the MSS system and not a stand-alone terrestrial system.

In 2003, the Commission authorized CDMA Big LEO MSS systems to operate ATC in 11 megahertz of their authorized spectrum: 5.5 megahertz at 1610-1615.5 MHz in the Big LEO L-band, and 5.5 megahertz at 2487.5-2493 MHz in the Big LEO S-band. In 2006, Globalstar requested that the Commission authorize it to operate ATC in all of the spectrum assigned to Globalstar, currently the 1610-1618.725 MHz and 2483.5-2500 MHz bands.

By a Report and Order and Order Proposing Modification, the Commission increases the spectrum in which CDMA Big LEO MSS systems may operate ATC to 7.775 megahertz at 1610-1617.775 MHz in the Big LEO L-band and 11.5 megahertz at 2483.5-2495 MHz in the Big LEO S-band, a total increase of 8.775 megahertz from the previous ATC authorization of eleven megahertz to an ATC authorization of 19.275 megahertz. The Commission does not authorize CDMA Big LEO MSS operators to operate ATC in the L-band segment at 1617.775-1618.725 MHz because that segment is shared time division multiple access (TDMA) Big LEO MSS, and it is highly likely that ATC would cause harmful interference to the only TDMA Big LEO MSS currently operational, operated by Iridium Satellite LLC. The Commission also does not authorize ATC in the 2495-2500 MHz segment of the Big LEO S-band because that segment is shared with the fixed and mobile services, including the Broadband Radio Service/Educational Broadband Service (BRS/EBS), and it is highly likely that ATC would cause harmful interference to that service.

The Commission also establishes strict out-of-band emissions limits for the upper edge of the ATC S-band (2495 MHz) to ensure that ATC will not cause harmful interference to BRS Channel 1 operations in the 2496-2502 MHz band.

The Commission proposes to modify Globalstar's MSS license pursuant to its authority under Section 316 of the Communications Act, to reflect that Globalstar will have authority to operate ATC in the bands 1610-1617.775 MHz and 2483.5-2495 MHz. This license modification will serve the public interest by providing more capable and flexible MSS/ATC service offerings in the Big LEO bands. Globalstar may protest the proposed modification of its license within 30 days of publication of this Report and Order and Order Proposing Modification in the Federal Register.

This Report and Order and Order Proposing Modification does not contain new or modified information collection requirements subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4).

The Commission will send a copy of this Report and Order and Order Proposing Modification in a report to be sent to Congress and the Government Accountability Office pursuant to the Congressional Review Act, see 5 U.S.C. 801(a)(1)(A).

List of Subjects in 47 CFR Part 25

Satellites.

Federal Communications Commission.
Marlene H. Dortch,
Secretary.

Final Rules

For the reasons discussed in the preamble, the Federal Communications Commission amends 47 CFR part 25 to read as follows:

PART 25—SATELLITE COMMUNICATIONS

1. The authority citation for part 25 continues to read:

Authority: 47 U.S.C. 701-744. Interprets or applies Sections 4, 301, 302, 303, 307, 309 and 332 of the Communications Act, as amended, 47 U.S.C. Sections 154, 301, 302, 303, 307, 309 and 332, unless otherwise noted.

2. Revise paragraphs (a)(2)(iii) and (b)(5)(ii) of § 25.149 to read as follows:

§ 25.149 Application requirements for ancillary terrestrial components in the mobile-satellite service networks operating in the 1.5/1.6 GHz, 1.6/2.4 GHz and 2 GHz mobile-satellite service.

(a) * * *

(2) * * *

(iii) In the 1610-1626.5 MHz/2483.5-2500 MHz bands (Big LEO bands), ATC operations are limited to the 1610-1617.775 MHz, 1621.35-1626.5 MHz, and 2483.5-2495 MHz bands and to the specific frequencies authorized for use by the MSS licensee that seeks ATC authority.

* * * * *

(b) * * *

(5) * * *

(ii) In the Big LEO bands, MSS ATC is limited to no more than 7.775 MHz of spectrum in the L-band and 11.5 MHz of spectrum in the S-band. Licensees in these bands may implement ATC only on those channels on which MSS is authorized, consistent with the Big LEO band-sharing arrangement.

* * * * *

3. Add paragraph (d) to § 25.254 to read as follows:

§ 25.254 Special requirements for ancillary terrestrial components operating in the 1610-1626.5 MHz/2483.5-2500 MHz bands.

* * * * *

(d) To avoid interference to an adjacent channel licensee in the Broadband Radio Service (BRS), the power of any ATC base station emission above 2495 MHz shall be attenuated below the transmitter power (P) measured in watts in accordance with the standards below. If these measures do not resolve a documented interference complaint received from the adjacent channel BRS licensee, the provisions of § 25.255 shall apply.

(1) For base stations, the attenuation shall be not less than 43 + 10 log (P) dB at the upper edge of the authorized ATC band, unless a documented interference complaint is received from an adjacent channel licensee in the BRS. Provided that a documented interference complaint cannot be mutually resolved between the parties, the following additional attenuation requirements set forth in subsections (2)-(5) shall apply:

(2) If a pre-existing BRS base station suffers harmful interference from emissions caused by a new or modified ATC base station located 1.5 km or more away, within 24 hours of the receipt of a documented interference complaint the ATC licensee must attenuate its emissions by at least 67 + 10 log (P) dB measured at 3 megahertz above the edge of the authorized ATC band, and shall immediately notify the complaining licensee upon implementation of the additional attenuation.

(3) If a pre-existing BRS base station suffers harmful interference from emissions caused by a new or modified ATC base station located less than 1.5 km away, within 24 hours of the receipt of a documented interference complaint the ATC licensee must attenuate its emissions by at least 67 + 10 log (P) −20 log(Dkm/1.5) dB measured at 3 megahertz above the edge of the authorized ATC band, or if both base stations are co-located, limit its undesired signal level at the pre-existing BRS base station receiver(s) to no more than −107 dBm measured in a 5.5 megahertz bandwidth and shall immediately notify the complaining licensee upon such reduction in the undesired signal level.

(4) If a new or modified BRS base station suffers harmful interference from emissions caused by a pre-existing ATC base station located 1.5 km or more away, within 60 days of receipt of a documented interference complaint the licensee of the ATC base station must attenuate its base station emissions by at least 67 + 10 log (P) dB measured at 3 megahertz above the edge of the authorized ATC band.

(5) If a new or modified BRS base station suffers harmful interference from emissions caused by a pre-existing ATC base station located less than 1.5 km away, within 60 days of receipt of a documented interference complaint:

(i) the ATC licensee must attenuate its base station emissions by at least 67 + 10 log (P) −20 log(Dkm/1.5) dB measured 3 megahertz above the edge of the authorized ATC band, or

(ii) if both base stations are co-located, the ATC licensee must limit its undesired signal level at the new or modified BRS base station receiver(s) to no more than −107 dBm measured in a 5.5 megahertz bandwidth.

(6) Compliance with these rules is based on the use of measurement instrumentation employing a resolution bandwidth of 1 MHz or greater. However, in the 1 MHz bands immediately above and adjacent to the 2495 MHz a resolution bandwidth of at least one percent of the emission bandwidth of the fundamental emission of the transmitter may be employed. A narrower resolution bandwidth is permitted in all cases to improve measurement accuracy, provided the measured power is integrated over the full required measurement bandwidth (i.e., 1 MHz or 1 percent of emission bandwidth, as specified). The emission bandwidth is defined as the width of the signal between two points, one below the carrier center frequency and one above the carrier center frequency, outside of which all emissions are attenuated at least 26 dB below the transmitter power. When an emission outside of the authorized bandwidth causes harmful interference, the Commission may, at its discretion, require greater attenuation than specified in this section.

* * * * *

[FR Doc. E8-10095 Filed 5-6-08; 8:45 am]

BILLING CODE 6712-01-P